DEPARTMENT OF LABOR

Office of the Secretary

Submission for OMB Review: Comment Request

March 1, 2010.

The Department of Labor (DOL) hereby announces the submission of the following public information collection request (ICR) to the Office of Management and Budget (OMB) for review and approval in accordance with the Paperwork Reduction Act of 1995 (Pub. L. 104-13, 44 U.S.C. chapter 35). A copy of this ICR, with applicable supporting documentation, including among other things a description of the likely respondents, proposed frequency of response, and estimated total burden may be obtained from the RegInfo.gov Web site at http://www.reginfo.gov/public/do/PRAMain or by contacting Darrin King on 202-693-4129 (this is not a toll-free number)/E-mail: DOL_PR A_PUBLIC@dol.gov.

Interested parties are encouraged to send comments to the Office of Information and Regulatory Affairs, Attn: OMB Desk Officer for the Department of Labor—Bureau of Labor Statistics (BLS), Office of Management and Budget, Room 10235, Washington, DC 20503, Telephone: 202-395-7316/Fax: 202-395-5806 (these are not toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Bureau of Labor Statistics.

Type of Review: Extension without change of a currently approved collection.

Title of Collection: Multiple Worksite Report and the Report of Federal Employment and Wages.

OMB Control Number: 1220-0134.

Affected Public: Federal Government and Private Sector.

Total Estimated Number of Respondents: 133,293.

Total Estimated Annual Burden Hours: 197,274.

Total Estimated Annual Costs Burden (does not include hourly wage costs): $0.

Description: States use the Multiple Worksite Report to collect employment and wages data from non-Federal businesses engaged in multiple operations within a State and subject to State Unemployment Insurance laws. The Report of Federal Employment and Wages is designed for Federal establishments covered under the Unemployment Compensation for Federal Employees program. These data are used for sampling, benchmarking, and economic analysis. For additional information, see related notice published in the Federal Register on November 17, 2009 (Vol. 74, page 59245).

Darrin A. King,
Departmental Clearance Officer.

[FR Doc. 2010-4581 Filed 3-4-10; 8:45 am]

BILLING CODE 4510-24-P